DEPARTMENT OF THE INTERIOR

Minerals Management Service

Agency Information Collection Activities: Submitted for Office of Management and Budget (OMB) Review; Comment Request

AGENCY: Minerals Management Service (MMS), Interior.

ACTION: Notice of extension of a currently approved information collection (OMB Control Number 1010-0051).

SUMMARY: To comply with the Paperwork Reduction Act of 1995 (PRA), we are submitting to OMB for review and approval an information collection request (ICR), titled “30 CFR 250, Subpart L, Oil and Gas Production Measurement, Surface Commingling, and Security.” We are also soliciting comments from the public on this ICR.

DATES: Submit written comments by July 9, 2001.

ADDRESSES: You may submit comments directly to the Office of Information and Regulatory Affairs, OMB, Attention: Desk Officer for the Department of the Interior (1010-0051), 725 17th Street, NW., Washington, DC 20503. Mail or hand carry a copy of your comments to the Department of the Interior, Minerals Management Service, Attention: Rules Processing Team, Mail Stop 4024, 381 Elden Street; Herndon, Virginia 20170-4817. If you wish to e-mail comments, the e-mail address is: rules.comments@mms.gov. Reference “Information Collection 1010-0051” in your e-mail subject line. Include your name and return address in your e-mail message and mark your message for return receipt.

Our practice is to make comments, including names and home addresses of respondents, available for public review during regular business hours. Individual respondents may request that we withhold their home address from the record, which we will honor to the extent allowable by law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

FOR FURTHER INFORMATION CONTACT: Alexis London, Rules Processing Team, telephone (703) 787-1600. You may also contact Alexis London to obtain at no cost a copy of our submission to OMB, which includes the regulations that require this information to be collected.

SUPPLEMENTARY INFORMATION: Title: 30 CFR 250, Subpart L, Oil and Gas Production Measurement, Surface Commingling, and Security.

OMB Control Number: 1010-0051.

Abstract: The Outer Continental Shelf (OCS) Lands Act, 43 U.S.C. 1331 et seq., gives the Secretary (Secretary) of the Department of the Interior (DOI) the responsibility to preserve, protect, and develop oil and gas resources in the OCS. This must be in a manner that is consistent with the need to make such resources available to meet the Nation's energy needs as rapidly as possible; balance orderly energy-resources development with protection of the human, marine, and coastal environment; ensure the public a fair and equitable return on OCS resources; and preserve and maintain free enterprise competition. The Federal Oil and Gas Royalty Management Act of 1982 (30 U.S.C. 1701, et seq.) at section 1712(b)(2) prescribes that an operator will “develop and comply with such minimum site security measures as the Secretary deems appropriate, to protect oil or gas produced or stored on a lease site or on the Outer Continental Shelf from theft.” These authorities and responsibilities are among those delegated to MMS under which we issue regulations governing oil and gas and sulphur operations in the OCS. This information collection request addresses the regulations at 30 CFR part 250, subpart L, Oil and Gas Production Measurement, Surface Commingling, and Security, and the associated supplementary notices to lessees and operators intended to provide clarification, description, or explanation of these regulations.

MMS uses the information collected under subpart L to ensure that the volumes of hydrocarbons produced are measured accurately, and royalties are paid on the proper volumes. Specifically, MMS needs the information to:

• Determine if measurement equipment is properly installed, provides accurate measurement of production on which royalty is due, and is operating properly;

• Obtain rates of production data in allocating the volumes of production measured at royalty sales meters, which can be examined during field inspections;

• Ascertain if all removals of oil and condensate from the lease are reported;

• Determine the amount of oil that was shipped when measurements are taken by gauging the tanks rather than being measured by a meter;

• Ensure that the sales location is secure and production cannot be removed without the volumes being recorded; and

• Review proving reports to verify that data on run tickets are calculated and reported accurately.

Responses are mandatory. No questions of a “sensitive” nature are asked. MMS will protect proprietary information according to 30 CFR 250.196 (Data and information to be made available to the public) and 30 CFR part 252 (OCS Oil and Gas Information Program).

Frequency: The frequency varies by section, but is primarily monthly or “on occasion.”

Estimated Number and Description of Respondents: Approximately 130 Federal OCS oil and gas or sulphur lessees.

Estimated Annual Reporting and Recordkeeping “Hour” Burden: The following chart details the components of the estimated hour burden for the information collection requirements in subpart L—6,548 total burden hours. In estimating the burden, we assumed that respondents perform certain requirements in the normal course of their activities. We consider these to be usual and customary and took that into account in estimating the burden.

Citation 30 CFR 250 subpart L | Reporting or recordkeeping requirement | Requirement hour burden
Reporting Requirements
1202(a)(1), (b)(1) | Submit liquid hydrocarbon measurement procedures application and/or changes | 8 hours.
1202(a)(4) | Copy & send pipeline (retrograde) condensate volumes upon request. | ¾ hour.
1202(c)(4)* | Copy & send all liquid hydrocarbon run tickets monthly | 1 minute.
1202(d)(4) | Request approval for proving on a schedule other than monthly | 1 hour.
1202(d)(5)* | Copy & submit liquid hydrocarbon royalty meter proving reports monthly & request waiver as needed | 1 minute.
1202(f)(2)* | Copy & submit mechanical-displacement prover & tank prover calibration reports | 10 minutes.
1202(l)(2)* | Copy & submit royalty tank calibration charts before using for royalty measurement | 10 minutes.
1202(l)(3)* | Copy & submit inventory tank calibration charts upon request | ¼ hour.
1203(b)(1) | Submit gas measurement procedures application and/or changes | 8 hours.
1203(b)(6), (8), (9)* | Copy & submit gas quality and volume statements upon request (80% of these will be routine; 20% will take longer) | 80% @ 5 mins. 20% @ 30 mins.
1203(c)(4)* | Copy & submit gas meter calibration reports upon request | 5 minutes.
1203(e)(1)* | Copy & submit gas processing plant records upon request | ½ hour.
1203(f)(5) | Copy & submit measuring records of gas lost or used on lease upon request | 5 minutes.
1204(a)(1) | Submit commingling application and/or changes | 8 hours.
1204(a)(2) | Provide state production volumetric and/or fractional analysis data upon request | 1 hour.
1205(a)(4) | Report security problems (telephone) | ¼ hour.
Recordkeeping Requirements
1202(c)(1), (2) 1202(e) 1202(h)(1), (2), (3), (4) 1202(i)(1)(iv), (2)(iii) 1202(j) | Record observed data, correction factors & net standard volume on royalty meter and tank run tickets Record master meter calibration runs Record mechanical-displacement prover, master meter, or tank prover proof runs Record liquid hydrocarbon royalty meter malfunction and repair or adjustment on proving report; record unregistered production on run ticket List Cpl and Ctl factors on run tickets | Respondents record these items as part of normal business records & practices to verify accuracy of production measured for sale purposes.
1202(e)(6) | Retain master meter calibration reports for 2 years | 1 minute.
1202(k)(5) | Retain liquid hydrocarbon allocation meter proving reports for 2 years | 1 minute.
1202(l)(3) | Retain liquid hydrocarbon inventory tank calibration charts for as long as tanks are in use | 5 minutes.
1203(c)(4) | Retain calibration reports for 2 years | 1 minute.
1203(f)(4) | Document & retain measurement records on gas lost or used on lease for 2 years | 1 minute.
1204(b)(3) | Retain well test data for 2 years | 2 minutes.
1205(a)(2) | Post signs at royalty or inventory tank used in royalty determination process | 1 hour.
1205(b)(3), (4) | Retain seal number lists for 2 years | 2 minutes.
* Respondents gather this information as part of their normal business practices. MMS only requires copies of readily available documents. This is no burden for testing, meter reading, document preparation, etc.

Estimated Annual Reporting and Recordkeeping “Non-Hour Cost” Burden: We have identified no “non-hour” costs burdens.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on February 20, 2001, we published a Federal Register notice (66 FR 10900) announcing that we would submit this ICR to OMB for approval. The notice provided the required 60-day comment period. In addition, § 250.199 displays the OMB control number, specifies that the public may comment at anytime on the collection of information required in the 30 CFR part 250 regulations and forms, and provides the address to which they should send comments. We have received no comments in response to these efforts. We also consulted with several respondents and adjusted some of the information collection burdens as a result of those consultations.

If you wish to comment in response to this notice, send your comments directly to the offices listed under the ADDRESSES section of this notice. The OMB has up to 60 days to approve or disapprove the information collection but may respond after 30 days. Therefore, to ensure maximum consideration, OMB should receive public comments by July 9, 2001. The PRA provides that an agency may not conduct or sponsor, and a person is not required to respond to, a collection of information unless it displays a currently valid OMB control number.

MMS Information Collection Clearance Officer: Jo Ann Lauterbach, (202) 208-7744.

Dated: April 26, 2001.
John V. Mirabella,
Acting Chief, Engineering and Operations Division.

[FR Doc. 01-14295 Filed 6-6-01; 8:45 am]

BILLING CODE 4310-MR-P